DEPARTMENT OF STATE

[Public Notice: 7325]

Shipping Coordinating Committee; Notice of Committee Meeting

The Shipping Coordinating Committee (SHC) will conduct an open meeting at 10 a.m. on Monday March 28th, 2011, in Room 1422 of the United States Coast Guard Headquarters Building, 2100 Second Street, SW., Washington, DC 20593-0001. The primary purpose of the meeting is to prepare for the ninety-eighth Session of the International Maritime Organization's (IMO) Legal Committee to be held at the IMO headquarters in London, United Kingdom, from April 4th-8th, 2011.

The primary matters to be considered include:

—Guidelines on implementation of the 2010 Protocol to the International Convention on Liability and Compensation for Damage in Connection with the Carriage of Hazardous and Noxious Substances by Sea, 1996;

—Provision of financial security in cases of abandonment, personal injury to, or death of seafarers;

—Fair treatment of seafarers in the event of a maritime accident;

—Consideration of a proposal to amend the limits of liability of the 1996 Protocol to the Convention on Limitation of Liability for Maritime Claims, 1976;

—Review of national legislation regarding piracy;

—Matters arising from the 105th regular session of the IMO Council;

—Technical cooperation activitites related to maritime legislation;

—Review of the status of conventions and other treaty instruments emanating from the Legal Committee; and

—Any other business.

—The public should be aware that Legal Committee has received a proposal to discuss liability and compensation issues for transboundary pollution damage resulting from offshore oil exploration and exploitation activities. There is no formal agenda item for this proposal, as it has not yet been adopted to the work programme, but the U.S. delegation anticipates receiving an interim report on informal, intersessional developments on this proposal.

Members of the public may attend this meeting up to the seating capacity of the room. To facilitate the building security process, and to request reasonable accommodation, those who plan to attend should contact the meeting coordinator, Ms. Bronwyn G. Douglass, by e-mail at bronwyn.douglass@uscg.mil, by phone at (202) 372-3792, by fax at (202) 372-3972, or in writing at Commandant (CG-0941), U.S. Coast Guard, 2100 2nd Street, SW., Stop 7121, Washington, DC 20593-7121 not later than March 21st, 2011, 7 days prior to the meeting. Requests made after March 21st might not be able to be accommodated. Please note that due to security considerations, two valid, government issued photo identifications must be presented to gain entrance to the Headquarters building. The Headquarters building is accessible by taxi and privately owned conveyance (public transportation is not generally available). However, parking in the vicinity of the building is extremely limited. Additional information regarding this and other IMO SHC public meetings may be found at: http://www.uscg.mil/imo.

Dated: March 2, 2011.
Jon Trent Warner,
Executive Secretary, Shipping Coordinating Committee, Department of State.

[FR Doc. 2011-5255 Filed 3-7-11; 8:45 am]

BILLING CODE 4710-09-P